DEPARTMENT OF COMMERCE

International Trade Administration

[A-489-501]

Certain Welded Carbon Steel Pipe and Tube from Turkey: Extension of the Time Limit for the Preliminary Results of Antidumping Duty Administrative Review

AGENCY: Import Administration, International Trade Administration, Department of Commerce.

EFFECTIVE DATE: January 6, 2004.

FOR FURTHER INFORMATION CONTACT: Charles Riggle at (202) 482-0650 or Martin Claessens at (202) 482-5451, Office 5, AD/CVD Enforcement, Import Administration, International Trade Administration, U.S. Department of Commerce, 14th Street and Constitution Avenue, NW, Washington, DC 20230.

TIME LIMITS:

Statutory Time Limits

Section 751(a)(3)(A) of the Tariff Act of 1930, as amended (the Act), requires the Department of Commerce (the Department) to complete the preliminary results of an administrative review within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested, and for the final results to 180 days (or 300 days if the Department does not extend the time limit for the preliminary results) from the date of publication of the preliminary results.

Background

On May 1, 2003, the Department published a notice of opportunity to request an administrative review of this order. See Antidumping or Countervailing Duty Order, Finding, or Suspended Investigation; Opportunity to Request Administrative Review, 68 FR 23281 (May 1, 2003). On May 30, 2003, in accordance with 19 CFR 351.213(b), interested parties Allied Tube & Conduit Corporation, IPSCO Tubulars, Inc., and Wheatland Tube Company requested a review of producers/exporters of certain welded carbon steel pipe and tube.On July 1, 2003, the Department of Commerce (the Department) published a notice of initiation of administrative review of the antidumping duty order on certain carbon steel welded pipe and tube from Turkey, covering the period May 1, 2002, through April 30, 2003 (68 FR 39055). The preliminary results are currently due no later than February 2, 2004.

Extension of Time Limit for Preliminary Results of Review

We determine that it is not practicable to complete the preliminary results of this review within the original time limit due to the complex issues that have been raised. First, the Department requires additional time to analyze the numerous affiliations and complex corporate structure of the respondent. In addition, the Department must address the complicated cost issues associated with Turkey exhibiting high inflation during the period of review.

Therefore, the Department is extending the time limit for completion of the preliminary results by 60 days until March 31, 2004. We intend to issue the final results no later than 120 days after publication of the preliminary results notice.

Dated: December 30, 2003.
Gary Taverman,
Acting Deputy Assistant Secretary for AD/CVD Enforcement, Group II.

[FR Doc. 04-235 Filed 1-5-04; 8:45 am]

BILLING CODE 3510-DS-S